DEPARTMENT OF HEALTH AND HUMAN SERVICES

National Institutes of Health

National Institute on Drug Abuse; Amended Notice of Meeting

Notice is hereby given of a change in the meeting of the National Institute on Drug Abuse Special Emphasis Panel, March 26, 2020, 8:00 a.m. to 5:00 p.m., Hilton Washington/Rockville, 1750 Rockville Pike, Rockville, MD 20852, which was published in the Federal Register on February 28, 2020, 85 FR 11998.

This meeting is amended to change the meeting location and format. The meeting will now be held as a teleconference at the National Institutes of Health, Neurosciences Center Building, 6001 Executive Boulevard, Room 4236, Rockville, MD 20852. The meeting is closed to the public.

Dated: March 12, 2020.
Tyeshia M. Roberson,
Program Analyst, Office of Federal Advisory Committee Policy.

[FR Doc. 2020-05632 Filed 3-17-20; 8:45 am]

BILLING CODE 4140-01-P